DEPARTMENT OF HEALTH AND HUMAN SERVICES

Centers for Disease Control and Prevention

[30Day-25-24FU]

Agency Forms Undergoing Paperwork Reduction Act Review

In accordance with the Paperwork Reduction Act of 1995, the Centers for Disease Control and Prevention (CDC) has submitted the information collection request titled “Comprehensive Understanding of Readiness for Elimination of Hepatitis C in Corrections (Cure-HepC)”, to the Office of Management and Budget (OMB) for review and approval. CDC previously published a “Proposed Data Collection Submitted for Public Comment and Recommendations” notice on May 28, 2024, to obtain comments from the public and affected agencies. CDC received two non-substantive public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Comprehensive Understanding of Readiness for Elimination of Hepatitis C in Corrections (Cure-HepC)survey—New—National Center for HIV, Viral Hepatitis, STD, and Tuberculosis Prevention (NCHHSTP), Centers for Disease Control and Prevention (CDC).

Background and Brief Description

CDC previously piloted the Comprehensive Understanding of Readiness for Elimination of Hepatitis C in Corrections (Cure-HepC) survey with the American Correctional Association in seven jurisdictions. The goal is to administer the validated Cure-HepC survey to all 50-state Department of Corrections (DOC) including the district of Columbia, and large jails. This survey captures data on current hepatitis C screening, testing, and treatment practices, hepatitis C prevalence estimates, access to substance use disorder treatment including medications for opioid use disorder (MOUD), and challenges in scaling hepatitis C testing and treatment programming.

The results of this survey will be used to accelerate the implementation of hepatitis C screening, testing and treatment best practices and track the elimination of hepatitis C in carceral settings. Point prevalence data allows for the appropriate allocation of resources to support state DOCs and large jails in their efforts to eliminate hepatitis C in carceral settings. Understanding challenges in best practices implementation can shape technical assistance and resources to accelerate their adoption. The importance of this task is monumental in that carceral health is community health and eliminating hepatitis C in carceral settings greatly advances overall elimination efforts.

The information collected will allow CDC to be good stewards of resources by guiding programmatic initiatives and allocation of funding sources. Data from this project will be used to inform planning and evaluation of programming that aim to reduce new viral hepatitis infections, reduce viral hepatitis-related morbidity and mortality, and reduce viral hepatitis-related disparities. The data collected will establish a system for ongoing program evaluation and improvement and allow for data-driven resource allocation to areas of greatest need. Invitations will be sent to 101 state DOCs and large jails, to include the District of Columbia.

This self-administered survey modality will include programmed required data elements, logic checks, skip patterns, and range values, thereby improving the quality of the data and reducing burden for respondents. Respondents who do not wish to complete the survey online via secure web-based application will be given other options including to schedule a telephone or videoconference interview with a member of the study administration team. All data, regardless of survey modality used, will be entered into a secure web-based application (e.g., REDCap, Survey Monkey). The burden to respondents will remain the same regardless of mode of administration. Participating sites will have a set-time period, to complete the survey. Estimated time to complete survey is between 30 to 80 minutes, with an average time to complete of 55 minutes, to include time for collecting the required data elements and entering the data elements into the web-based survey form. The total annual burden is estimated to be 96 hours.

Estimated Annualized Burden Hours
Respondent | Form | Number of respondents | Number of responses per respondent | Average burden per response (hours)
Participating State Department of Corrections Prisons and large jails, to include District of Columbia | Comprehensive Understanding of Readiness for Elimination of Hepatitis C in Corrections (Cure-HepC) survey | 101 | 1 | 55/60
Non-responding State Department of Corrections Prisons and large jails, to include District of Columbia | Non-Response survey | 101 | 1 | 2/60

Jeffrey M. Zirger,
Lead, Information Collection Review Office, Office of Public Health Ethics and Regulations, Office of Science, Centers for Disease Control and Prevention.

[FR Doc. 2025-00160 Filed 1-7-25; 8:45 am]

BILLING CODE 4163-18-P